DEPARTMENT OF TRANSPORTATION

Federal Aviation Administration

14 CFR Part 39

[Docket No. FAA-2019-0404; Product Identifier 2019-NM-007-AD; Amendment 39-19754; AD 2019-20-01]

RIN 2120-AA64

Airworthiness Directives; Airbus SAS Airplanes

AGENCY: Federal Aviation Administration (FAA), Department of Transportation (DOT).

ACTION: Final rule.

SUMMARY: The FAA is superseding Airworthiness Directive (AD) 2018-26-07, which applied to all Airbus SAS Model A350-941 and -1041 airplanes. AD 2018-26-07 required repetitive greasing of the thrust reverser actuators (TRAs), dispatch restrictions, and maintenance procedure revisions. This AD requires actions specified in a European Union Aviation Safety Agency (EASA) AD, which is incorporated by reference. This AD was prompted by the FAA's determination to add a requirement to replace the TRAs, which AD 2018-26-07 specified was not required at the time to provide the opportunity for the public to comment on the merits of that action. The FAA is issuing this AD to address the unsafe condition on these products.

DATES: This AD is effective November 21, 2019.

The Director of the Federal Register approved the incorporation by reference of a certain publication listed in this AD as of November 21, 2019.

The Director of the Federal Register approved the incorporation by reference of a certain other publication listed in this AD as of January 15, 2019 (83 FR 67677, December 31, 2018).

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0404.

Examining the AD Docket

You may examine the AD docket on the internet at http://www.regulations.gov by searching for and locating Docket No. FAA-2019-0404; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, International Section, Transport Standards Branch, FAA, 2200 South 216th St., Des Moines, WA 98198; phone and fax: 206-231-3218.

SUPPLEMENTARY INFORMATION:

Discussion

The EASA, which is the Technical Agent for the Member States of the European Union, has issued EASA AD 2018-0234R2, dated September 17, 2019 (“EASA AD 2018-0234R2”) (referred to after this as the Mandatory Continuing Airworthiness Information, or “the MCAI”), to correct an unsafe condition for all Airbus SAS Model A350-941 and -1041 airplanes.

The FAA issued a notice of proposed rulemaking (NPRM) to amend 14 CFR part 39 to supersede AD 2018-26-07, Amendment 39-19538 (83 FR 67677, December 31, 2018) (“AD 2018-26-07”). AD 2018-26-07 applied to all Airbus SAS Model A350-941 and -1041 airplanes. The NPRM published in the Federal Register on June 6, 2019 (84 FR 26373). The NPRM was prompted by the FAA's determination to add a requirement to replace the TRAs, which AD 2018-26-07 specified was not required at the time to provide the opportunity for the public to comment on the merits of that action. The NPRM proposed to require actions specified in an EASA AD, which is incorporated by reference.

This AD was prompted by reports of TRAs jamming and the determination that a one-time replacement of affected TRAs (all part numbers) is necessary. We are issuing this AD to address jamming of the TRAs, which could lead to an inadvertent thrust reverser sleeve deployment, possibly resulting in reduced control or performance of the airplane. See the MCAI for additional background information.

Comments

The FAA gave the public the opportunity to participate in developing this final rule. The following presents the comments received on the NPRM and the FAA's response to each comment.

Request To Change Compliance Time for Replacement of the TRAs

The Air Line Pilots Association, International (ALPA) stated partial agreement with the NPRM, and disagreement with the compliance time for replacement of the TRAs. ALPA mentioned that it had commented on AD 2018-26-07 that, based on the required inspection intervals of the MCAI and the low time of the affected U.S. fleet, the inclusion of the TRA replacement would not create an increased financial or undue burden. ALPA stated their belief that correlating the compliance time to the effective date of the new AD instead of using the effective date of AD 2018-26-07 is inadequate.

The FAA infers that the commenter is requesting a change to the compliance time for replacement of the TRAs. The FAA disagrees with the commenter's request. As noted in AD 2018-26-07, the FAA could not include the replacement in that AD because it was an immediately adopted rule and the planned compliance time for the replacement allowed enough time to provide notice and opportunity for prior public comment on the merits of the replacement. The FAA is now issuing this AD to require the replacement.

The only compliance time that is based on the effective date of this AD is specified in condition 3 in Table 3 of the MCAI. For airplanes with condition 3, the compliance time is the later of (A) before exceeding 2,400 flight cycles; or (B) within 250 flight cycles or 4 months, whichever occurs first after the effective date of this AD. Because the U.S. fleet is approximately two years younger than the oldest airplane in the global fleet and the affected U.S. airplanes have TRAs with a lower flight cycle age, we have determined the additional compliance time is appropriate and provides an acceptable level of safety. The FAA has not changed this AD in this regard.

Request To Remove Requirement To Change Master Minimum Equipment List (MMEL)

Delta Air Lines (DAL) requested that the FAA remove the requirement to change the MMEL in paragraph (h)(4) of the proposed AD. DAL pointed out that the updates required by paragraph (h)(4) of the proposed AD have been incorporated into the FAA MMEL as of Revision 4. DAL also mentioned that the FAA MMEL and the EASA MMEL are not identical. DAL stated that the FAA MMEL is more restrictive and does not allow the deactivation of both thrust reversers at the same time. DAL also stated that the differences, combined with possible future revisions of either the FAA MMEL or the EASA MMEL, could lead to confusion. DAL also pointed out that U.S. operators must follow the FAA MMEL.

The FAA agrees for the reasons provided. The FAA has revised paragraph (h)(3) of this AD to specify that the MMEL changes specified in EASA AD 2018-0234R1 and EASA AD 2018-0234R2 are not required by this AD, removed paragraph (h)(4) of this AD, and redesignated subsequent paragraphs accordingly.

Changes to This AD

Since the FAA issued the NPRM, EASA issued AD 2018-0234R2. EASA AD 2018-0234R2 refines the definition of affected TRAs and introduces a longer interval for repetitive greasing of certain affected TRAs. The FAA has determined that no additional work is required for airplanes on which the requirements specified in EASA AD 2018-0234R1, dated November 13, 2018 (“EASA AD 2018-0234R1”) have been accomplished. Therefore, the agency has revised all applicable sections in this final rule to also specify EASA AD 2018-0234R2.

In addition, the FAA has revised the terminology in paragraph (h)(1) of this AD to clarify the retained requirements.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2018-0234R2 describes procedures for repetitive greasing of the TRAs, maintenance procedure revisions, and replacement of the TRAs, among other actions.

This AD also requires EASA AD 2018-0234R1, which the Director of the Federal Register approved for incorporation by reference as of January 15, 2019 (83 FR 67677, December 31, 2018).

These documents are distinct since EASA AD 2018-0234R2 includes updated requirements and definitions, and a longer interval for repetitive greasing of certain affected TRAs. This material is reasonably available because the interested parties have access to it through their normal course of business or by the means identified in the ADDRESSES section.

Interim Action

The FAA considers this AD interim action. If final action is later identified, The FAA might consider further rulemaking then.

Costs of Compliance

The FAA estimates that this AD affects 11 airplanes of U.S. registry. The FAA estimates the following costs to comply with this AD:

Estimated Costs for Required Actions
Action | Labor cost | Parts cost | Cost per product | Cost on U.S. operators
Retained actions from AD 2018-26-07 | 10 work-hours × $85 per hour = $850 | $0 | $850 | $9,350
New actions | 12 work-hours × $85 per hour = $1,020 | (*) | * 1,020 | * 11,220
* The FAA has received no definitive data that would enable the agency to provide parts cost estimates for the replacement specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-26-07, Amendment 39-19538 (83 FR 67677, December 31, 2018), and adding the following new AD:

2019-20-01 Airbus SAS: Amendment 39-19754; Docket No. FAA-2019-0404; Product Identifier 2019-NM-007-AD.

(a) Effective Date

This AD is effective November 21, 2019.

(b) Affected ADs

This AD replaces AD 2018-26-07, Amendment 39-19538 (83 FR 67677, December 31, 2018) (“AD 2018-26-07”).

(c) Applicability

This AD applies to all Airbus SAS Model A350-941 and -1041 airplanes, certificated in any category.

(d) Subject

Air Transport Association (ATA) of America Code 78, Engine Exhaust.

(e) Reason

This AD was prompted by reports of thrust reverser actuators (TRAs) jamming and the determination that a one-time replacement of affected TRAs (all part numbers) is necessary. The FAA is issuing this AD to address jamming of the TRAs, which could lead to an inadvertent thrust reverser sleeve deployment, possibly resulting in reduced control or performance of the airplane.

(f) Compliance

Comply with this AD within the compliance times specified, unless already done.

(g) Requirements

Except as specified in paragraph (h) of this AD: Comply with all required actions and compliance times specified in, and in accordance with, the European Union Aviation Safety Agency (EASA) ADs specified in paragraph (g)(1) or (2) of this AD.

(1) EASA AD 2018-0234R1, dated November 13, 2018 (“EASA AD 2018-0234R1”). All provisions specified in EASA AD 2018-0234R1 apply in this AD.

(2) EASA AD 2018-0234R2, dated September 17, 2019 (“EASA AD 2018-0234R2”). All provisions specified in EASA AD 2018-0234R2 apply in this AD.

(h) Exceptions to EASA AD 2018-0234R1 and EASA AD 2018-0234R2

(1) For purposes of determining compliance with the maintenance procedure revisions and repetitive TRA greasing requirements of this AD: Where EASA AD 2018-0234R1 and EASA AD 2018-0234R2 refer to the effective date of EASA AD 2018-0234R1 (November 13, 2018), this AD requires using January 15, 2019 (the effective date of AD 2018-26-07).

(2) For purposes of determining compliance with the TRA replacement requirements of this AD: Where EASA AD 2018-0234R1 and EASA AD 2018-0234R2 refer to their effective dates or November 13, 2018 (the effective date of EASA AD 2018-0234R1), this AD requires using the effective date of this AD.

(3) The master minimum equipment list (MMEL) changes specified in paragraph (1) of EASA AD 2018-0234R1 and EASA AD 2018-0234R2 are not required by this AD.

(4) The “Remarks” sections of EASA AD 2018-0234R1 and EASA AD 2018-0234R2 do not apply to this AD.

(5) Where EASA AD 2018-0234R1 and EASA AD 2018-0234R2 refer to the “the MER,” that document is not required by this AD, and it is not applicable to U.S. operators.

(i) No Reporting Requirement

Although the service information referenced in EASA AD 2018-0234R1 and EASA AD 2018-0234R2 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0234R1 or EASA AD 2018-0234R2 that contains RC procedures and tests: Except as specified by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Kathleen Arrigotti, Aerospace Engineer, International Section, Transport Standards Branch, FAA, 2200 South 216th St., Des Moines, WA 98198; phone and fax: 206-231-3218.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 21, 2019.

(i) European Union Aviation Safety Agency (EASA) AD 2018-0234R2, dated September 17, 2019.

(ii) [Reserved]

(4) The following service information was approved for IBR on January 15, 2019 (83 FR 67677, December 31, 2018).

(i) European Aviation Safety Agency (EASA) AD 2018-0234R1, dated November 13, 2018.

(ii) [Reserved]

(5) For EASA ADs 2018-0234R1 and 2018-0234R2, contact the EASA, Konrad-Adenauer-Ufer 3, 50668 Cologne, Germany; telephone +49 221 89990 6017; email ADs@easa.europa.eu; Internet www.easa.europa.eu. You may find this EASA AD on the EASA website at https://ad.easa.europa.eu.

Note 1 to paragraph (l)(5): EASA AD 2018-0234R1 can be accessed in the zipped file at the bottom of the web page for EASA AD 2018-0234R2. When EASA posts a revised AD on their website, they watermark the previous AD as “Revised,” alter the file name by adding “_revised” to the end, and move it into a zipped file attached at the bottom of the AD web page.

(6) You may view this material at the FAA, Transport Standards Branch, 2200 South 216th St., Des Moines, WA. For information on the availability of this material at the FAA, call 206-231-3195. AD 2018-0234R1 and 2018-0234R2 may be found in the AD docket on the internet at http://www.regulations.gov by searching for and locating Docket No. FAA-2019-0404.

(7) You may view this material that is incorporated by reference at the National Archives and Records Administration (NARA). For information on the availability of this material at NARA, call 202-741-6030, or go to: http://www.archives.gov/federal-register/cfr/ibr-locations.html.

Issued in Des Moines, Washington, on September 3, 2019.
Michael Kaszycki,
Acting Manager, System Oversight Division, Aircraft Certification Service.

[FR Doc. 2019-22565 Filed 10-16-19; 8:45 am]

BILLING CODE 4910-13-P